SECURITIES AND EXCHANGE COMMISSION

[File No. 500-1]

Order of Suspension of Trading; In the Matter of Matech Corp., MNC Corporation (a/k/a Monaco Coach Corporation), Pacific Fuel Cell Corp., and Penn Octane Corporation

January 7, 2014.

It appears to the Securities and Exchange Commission that there is a lack of current and accurate information concerning the securities of Matech Corp. because it has not filed any periodic reports since the period ended September 30, 2009.

It appears to the Securities and Exchange Commission that there is a lack of current and accurate information concerning the securities of MNC Corporation (a/k/a Monaco Coach Corporation) because it has not filed any periodic reports since the period ended September 27, 2008.

It appears to the Securities and Exchange Commission that there is a lack of current and accurate information concerning the securities of Pacific Fuel Cell Corp. because it has not filed any periodic reports since the period ended June 30, 2008.

It appears to the Securities and Exchange Commission that there is a lack of current and accurate information concerning the securities of Penn Octane Corp. because it has not filed any periodic reports since the period ended March 31, 2009.

The Commission is of the opinion that the public interest and the protection of investors require a suspension of trading in the securities of the above-listed companies. Therefore it is ordered, pursuant to Section 12(k) of the Securities Exchange Act of 1934, that trading in the securities of the above-listed companies is suspended for the period from 9:30 a.m. EST on January 7, 2014, through 11:59 p.m. EST on January 21, 2014.

By the Commission.
Jill M. Peterson,
Assistant Secretary.

[FR Doc. 2014-00223 Filed 1-7-14; 11:15 am]

BILLING CODE 8011-01-P